DEPARTMENT OF HEALTH AND HUMAN SERVICES

National Institutes of Health

Submission for OMB Review; 30-Day Comment Request Application and Impact of Clinical Research Training on Healthcare Professionals in Academia and Clinical Research (Office of the Director)

AGENCY: National Institutes of Health, HHS.

ACTION: Notice.

SUMMARY: In compliance with the Paperwork Reduction Act of 1995, the National Institutes of Health (NIH) has submitted to the Office of Management and Budget (OMB) a request for review and approval of the information collection listed below.

DATES: Comments regarding this information collection are best assured of having their full effect if received within 30-days of the date of this publication.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: To request more information on the proposed project or to obtain a copy of the data collection plans and instruments, contact: Dr. Anne Zajicek, Deputy Director, Office of Clinical Research, OD, NIH, Building 1, Room 208A, 1 Center Drive, Bethesda, MD 20892, or call non-toll-free number (301) 480-9913 or Email your request, including your address to: zajiceka@mail.nih.gov.

SUPPLEMENTARY INFORMATION: This proposed information collection was previously published in the Federal Register on Tuesday, August 30, 2022, Volume 87, pages 52979-52980 (87 FR 52979) and allowed 60 days for public comment. No public comments were received. The purpose of this notice is to allow an additional 30 days for public comment. The Office of Clinical Research, Office of the Director, National Institutes of Health, may not conduct or sponsor, and the respondent is not required to respond to, an information collection that has been extended, revised, or implemented on or after October 1, 1995, unless it displays a currently valid OMB control number.

In compliance with Section 3507(a)(1)(D) of the Paperwork Reduction Act of 1995, the National Institutes of Health (NIH) has submitted to the Office of Management and Budget (OMB) a request for review and approval of the information collection listed below.

Proposed Collection: Application and Impact of Clinical Research Training on Healthcare Professionals in Academia and Clinical Research, 0925-0764-expiration date, 11/30/2022, EXTENSION, Office of Clinical Research (OCR), National Institutes of Health (NIH), Office of the Director (OD).

Need and Use of Information Collection: The purpose of this survey is to assess the long-term impact and outcomes of clinical research training programs provided by the Office of Clinical Research located in the NIH Office of the Director (OD) over a ten-year follow-up period. The information received from respondents will provide insight on the following: impact of the courses on (a) promotion of professional competence, (b) research productivity and independence, and (c) future career development within clinical, translational and academic research settings. These surveys will provide preliminary data and guidance in (1) developing recommendations for collecting outcomes to assess the effectiveness of the training courses, and (2) tracking the impact of the curriculum on participants' ability to perform successfully in academic, non-academic, research, and non-research settings.

OMB approval is requested for 3 years. There are no costs to respondents other than their time. The total estimated annualized burden hours are 3,674.

Estimated Annualized Burden Hours
Form name | Type of respondents | Estimated number of respondents | Number of responses per respondent | Average burden per response (in hours) | Total annual burden hours
OCR Learning Portal Registration (Attachment 1) | Healthcare Professionals Students | 2,000 3,000 | 1 1 | 10/60 10/60 | 333 500
| General Public | 1,000 | 1 | 10/60 | 167
IPPCR Lecture Evaluation (Attachment 2) | Healthcare Professionals Students | 1,000 2,000 | 1 1 | 10/60 10/60 | 167 333
| General Public | 1,000 | 1 | 10/60 | 167
IPPCR Final Course Evaluation (Attachment 4) | Healthcare Professionals Students | 1,000 2,000 | 1 1 | 10/60 10/60 | 167 333
| General Public | 1,000 | 1 | 10/60 | 167
PCP Lecture Evaluation (Attachment 3) | Healthcare Professionals Students | 1,000 2,000 | 1 1 | 10/60 10/60 | 167 333
| General Public | 1,000 | 1 | 10/60 | 167
PCP Final Course Evaluation (Attachment 5) | Healthcare Professionals Students | 1,000 2,000 | 1 1 | 10/60 10/60 | 167 333
| General Public | 1,000 | 1 | 10/60 | 167
NIH Summer Course in Clinical and Translational Research Course Evaluation (Attachment 6) | Healthcare Professionals | 20 | 1 | 10/60 | 3
Sabbatical in Clinical Research Management Course Evaluation (Attachment 7) | Healthcare Professionals | 20 | 1 | 10/60 | 3
Total |  |  | 22,040 |  | 3,674

Dated: November 7, 2022.
Tara A. Schwetz,
Acting Principal Deputy Director, National Institutes of Health.

[FR Doc. 2022-24983 Filed 11-16-22; 8:45 am]

BILLING CODE 4140-01-P